FEDERAL COMMUNICATIONS COMMISSION

47 CFR Part 73

[DA 13-867; MB Docket No. 13-102; RM-11696]

Radio Broadcasting Services; Moran, Texas

AGENCY: Federal Communications Commission.

ACTION: Proposed rule.

SUMMARY: In this document the Commission requests comment on a petition filed by Katherine Pyeatt (“Petitioner”), proposing to amend the FM Table of Allotments by allotting Channel 281A as a first local aural service at Moran, Texas. Channel 281A can be allotted at Moran, Texas, in compliance with the Commission's minimum distance separation requirements at the following reference coordinates: 32-25-00 NL and 99-08-00 WL. See Supplementary Information infra.

DATES: Comments must be filed on or before June 17, 2013 and reply comments must be filed on or before July 2, 2013.

ADDRESSES: You may submit comments, identified by MB Docket No 13-102, by any of the following methods:

• Federal Communications Commission's Web site: http://fjallfoss.fcc.gov/ecfs2/. Follow the instructions for submitting comments.

• People with disabilities: Contact the FCC to request reasonable accommodations (accessible format documents, sign language interpreters, CART, etc.) by email: FCC504@fcc.gov or phone: 202-418-0530 or TTY: 202-418-0432

For detailed instructions for submitting comments and additional information of the rulemaking process, see the SUPPLEMENTARY INFORMATION sections of this document. In addition to filing comments with the FCC, interested parties should serve petitioner as follows: Katherine Pyeatt, 215 Cedar Springs Rd., #1605, Dallas, Texas 75201.

FOR FURTHER INFORMATION CONTACT: Deborah A. Dupont, Media Bureau (202) 418-7072.

SUPPLEMENTARY INFORMATION: This is a synopsis of the Commission's Notice of Proposed Rule Making, MB Docket No. 13-XX, adopted April 24, 2013, and released April 26, 2013. The full text of this Commission decision is available for inspection and copying during normal business hours in the FCC Reference Information Center (Room CY-A257), 445 12th Street SW., Washington, DC 20554. The complete text of this decision may also be purchased from the Commission's copy contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended by adding Moran, Channel 281A.

[FR Doc. 2013-11124 Filed 5-9-13; 8:45 am]

BILLING CODE 6712-01-P